DEPARTMENT OF HEALTH AND HUMAN SERVICES

Food and Drug Administration

[Docket No. FDA-2010-N-0364]

Advancing the Development of Medical Products Used In the Prevention, Diagnosis, and Treatment of Neglected Tropical Diseases; Public Hearing; Change of Hearing Date and Location

AGENCY: Food and Drug Administration, HHS.

ACTION: Notice.

SUMMARY: The Food and Drug Administration (FDA) is announcing a change in date and location for the upcoming public hearing entitled “Advancing the Development of Medical Products Used in the Prevention, Diagnosis, and Treatment of Neglected Tropical Diseases.” A new date and address are given for those attending the public hearing.

DATES: The public hearing will be held on September 23, 2010, from 9 a.m. to 5 p.m. However, depending on the level of public participation, the meeting may be extended or it may end early.

ADDRESSES: The public hearing will be held at the National Labor College, 10000 New Hampshire Ave., Silver Spring, MD 20903. Persons attending the public hearing are advised that FDA is not responsible for providing access to electrical outlets.

FOR FURTHER INFORMATION CONTACT: Ann M. Staten, Office of Critical Path Programs, Food and Drug Administration, 10903 New Hampshire Ave., Bldg., 32, rm. 4106, Silver Spring, MD 20993-0002, 301-796-8504, Ann.Staten@fda.hhs.gov.

SUPPLEMENTARY INFORMATION:

I. Background

In the Federal Register of July 20, 2010 (75 FR 42103), FDA published a notice announcing a public hearing that is intended to solicit general views and information from interested persons on issues related to advancing the development of medical products (drugs, biological products, and medical devices) used in the prevention, diagnosis, and treatment of neglected tropical diseases. The registration dates from the July 20, 2010, notice have not changed. Individuals interested in making an oral presentation should submit a notice of participation by September 1, 2010. All others attending the public hearing are requested to register by September 17, 2010.

Because of a scheduling conflict with the published date, FDA is announcing in this notice a new date and location for the public hearing.

II. New Date and Location for the Pubic Hearing

The new date will be September 23, 2010 (see DATES). The new location will be the National Labor College (see ADDRESSES). Directions and information on parking, accommodations, and transportation options can be found at http://www.nlc.edu/about/maps-and-directions.

Dated: August 4, 2010.
Leslie Kux,
Acting Assistant Commissioner for Policy.

[FR Doc. 2010-19637 Filed 8-9-10; 8:45 am]

BILLING CODE 4160-01-S